DEPARTMENT OF AGRICULTURE

Agricultural Marketing Service

[Doc. No. AMS-SC-19-0058, SC-21-326]

United States Standards for Grades of Frozen Corn on the Cob

AGENCY: Agricultural Marketing Service, USDA.

ACTION: Final Notice.

SUMMARY: The Agricultural Marketing Service (AMS) of the Department of Agriculture (USDA) has revised the U.S. Standards for Grades of Frozen Corn on the Cob.

DATES: Effective April 8, 2021.

FOR FURTHER INFORMATION CONTACT: Brian E. Griffin, USDA, Specialty Crops Inspection Division, 100 Riverside Parkway, Suite 101, Fredericksburg, VA 22406; by phone (202) 748-2155; fax (202) 690-1527; or email Brian.Griffin@usda.gov. Copies of the U.S. Standards for Grades of Frozen Corn on the Cob are available on the Specialty Crops Inspection Division website at www.ams.usda.gov/grades-standards/vegetables.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: www.ams.usda.gov/grades-standards/vegetables. AMS is revising these U.S. Standards for Grades using the procedures that appear in part 36 of Title 7 of the Code of Federal Regulations (7 CFR part 36).

Background

AMS periodically reviews the grade standards for usefulness in serving the industry. More recently developed grade standards use a single term, such as “U.S. Grade A” or “U.S. Grade B,” to describe each level of quality within a grade standard. Older grade standards used dual nomenclature, such as “U.S. Grade A or U.S. Fancy” and “U.S. Grade B or U.S. Extra Standard” to describe the same level of quality. The terms “U.S. Fancy,” and “U.S. Extra Standard” have been removed and the terms “U.S. Grade A,” U.S. Grade B,” and “Substandard (Sstd)” are used exclusively.

AMS also made editorial changes to these grade standards, updating section headings omitted in previous revisions, and adding language and allowances for mixed color varieties to align the standards with use of mixed color varieties by industry. The addition of language and allowances differentiating between conventional sweet and supersweet types incorporates language from USDA internal guidance documents A-412, September 1967 Frozen Whole Kernel Whole-Grain Corn Evaluation of Tenderness and Maturity, and A-493, October 1997, Interpretative Guide for Frozen Supersweet Whole Kernel Corn to Determine: Tenderness and Maturity; and Flavor. These internal USDA documents were created with the intention of incorporating them into the standards.

On October 21, 2020, AMS published a notice inviting comments on proposed revisions to the U.S. Standards for Grades of Frozen Corn on the Cob in the Federal Register (85 FR 66926). No comments were received. This revision to these grade standards provides common language for trade and better reflects the current marketing of frozen corn on the cob.

Authority: 7 U.S.C. 1621-1627.

Bruce Summers,
Administrator, Agricultural Marketing Service.

[FR Doc. 2021-04880 Filed 3-8-21; 8:45 am]

BILLING CODE P